DEPARTMENT OF TRANSPORTATION

Pipeline and Hazardous Materials Safety Administration

[Docket ID PHMSA-2016-0049]

Pipeline Safety: Gaseous Carbon Dioxide Pipelines

AGENCY: Pipeline and Hazardous Materials Safety Administration (PHMSA), DOT.

ACTION: Notice; request for comments.

SUMMARY: PHMSA is seeking public comment on a PHMSA-authored report titled: “Background for Regulating the Transportation of Carbon Dioxide in a Gaseous State,” which is available in the docket at PHMSA-2016-0049. The report evaluates existing and potential future gaseous carbon dioxide (CO2) pipelines and outlines PHMSA's approach for establishing minimum pipeline safety standards for the transportation of carbon dioxide in a gaseous state to fulfill the requirements of section 15 of the Pipeline Safety, Regulatory Certainty, and Job Creation Act of 2011 (the Act). The Act requires the Secretary of Transportation to “prescribe minimum safety standards for the transportation of carbon dioxide by pipeline in a gaseous state.” PHMSA is seeking to better understand the possible effects of the regulatory scenarios presented within the report, as well as the locations and extent of gaseous carbon dioxide pipelines, and is requesting feedback on the validity and applicability of these effects and the location and extent of these pipelines. As PHMSA does not currently regulate these pipelines, its ability to reach out and locate operators of gaseous carbon dioxide pipelines has been limited and it is unclear if PHMSA's current information is comprehensive.

DATES: The public comment period for this notice ends July 27, 2016.

ADDRESSES: You may submit comments identified by the Docket ID PHMSA-2016-0049 by any of the following methods:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided.

Privacy Act Statement: Anyone may search the electronic form of all comments received for any of our dockets. You may review DOT's complete Privacy Act Statement in the Federal Register published April 11, 2000 (65 FR 19477).

FOR FURTHER INFORMATION CONTACT: Kenneth Lee, Director, Engineering and Research Division, at 202-366-2694 or Kenneth.lee@dot.gov about the subject matter in this notice.

SUPPLEMENTARY INFORMATION: Section 15 of the Act requires the Secretary of Transportation to “prescribe minimum safety standards for the transportation of carbon dioxide by pipeline in a gaseous phase.”

The Act requires that in “establishing the standards, the Secretary shall consider whether applying the minimum safety standards in part 195 of title 49, Code of Federal Regulations, as in effect on the date of enactment of this paragraph, for the transportation of carbon dioxide in a liquid state to the transportation of carbon dioxide in a gaseous state would ensure safety.” Further, the Act limited this authority, stating: “Nothing in this subsection authorizes the Secretary to regulate piping or equipment used in the production, extraction, recovery, lifting, stabilization, separation, or treatment of carbon dioxide or the preparation of carbon dioxide for transportation by pipeline at production, refining, or manufacturing facilities.”

After carefully reviewing the available information with regard to gaseous carbon dioxide pipelines, PHMSA has been unable to identify specific gaseous carbon dioxide pipelines or pipeline operators that would potentially be subject to future regulation per section 15 of the Act. For instance, in PHMSA's aforementioned report, a 78-mile, low-pressure gaseous carbon dioxide pipeline was identified as being located within a gas gathering field. In that instance, the applicability of future regulations could be unclear. PHMSA's report outlines much of the information gathered and available to PHMSA, which appears to support the likelihood that a majority of the carbon dioxide transported over distances would be in the supercritical fluid state, thereby subjecting these lines to the existing part 195 regulations, where applicable.

PHMSA is seeking public comment to better understand the possible effects of the regulatory scenarios presented within the report, information considered within the report, conclusions that could be drawn from the report, information missing from the report, and to better understand the locations and extent of gaseous carbon dioxide pipelines (whether existing or planned). Since PHMSA does not currently regulate these pipelines, its ability to reach out and locate potentially affected operators has been limited. PHMSA welcomes views and updates on the necessity for and approach to regulations for gaseous carbon dioxide pipelines per section 15 of the Act. Some areas of interest include:

1. Comments and suggestions with respect to the information included within the report, including comments on gaseous carbon dioxide pipelines and their regulation in general, as well as any conclusions readers can draw from the information presented.

2. Identifying gaseous carbon dioxide pipelines or pipeline operators not already identified in the report that would potentially be subject to regulation if they are regulated as outlined in the report per the requirements of section 15 of the Act. Include details, if available, such as pipeline location and length.

3. Identifying and discussing likely locations for the future construction of gaseous carbon dioxide pipelines not already discussed in the report that would potentially be subject to regulation if regulated as outlined in the report per the requirements of section 15 of the Act.

4. Comments on the two potential options for regulating gaseous carbon dioxide outlined in the report. These options would:

• Regulate the transport of gaseous CO2 entirely under part 192, or

• Regulate the transport under part 192, where appropriate, with reference to applicable sections of part 195.

If a particular regulatory approach is more appropriate or preferable, please provide supporting examples and reasons why. If against either approach, please provide supporting examples and reasons for being against the approach.

5. The report identifies industry projections for carbon dioxide pipeline need and growth. Please discuss whether these projections are consistent and accurate with current data. If they have changed, please discuss how they have changed.

6. Please comment on any technical standards addressing gaseous carbon dioxide pipelines that PHMSA could consider incorporating into any potential regulations.

7. If PHMSA pursues one of the regulatory scenarios presented within the report, and as stated in Area #4 above, would a simpler approach be adequate and responsible at this time? Could PHMSA make a change to the scope of part 192 to include gaseous carbon dioxide without any further technical differentiations within the regulations or without referencing the regulations for carbon dioxide in the supercritical state per existing part 195 regulations?

Issued in Washington, DC, on June 22, 2016, under authority delegated in 49 CFR 1.97.
Alan K. Mayberry,
Acting Associate Administrator for Pipeline Safety.

[FR Doc. 2016-15123 Filed 6-24-16; 8:45 am]

BILLING CODE 4910-60-P